DEPARTMENT OF AGRICULTURE

Rural Utilities Service

[Docket No. RUS-22-TELECOM-0054]

Notice of New Information Collection

AGENCY: Rural Utilities Service, USDA.

ACTION: Notice and request for comment.

SUMMARY: In accordance with the Paperwork Reduction Act of 1995, this notice announces the Rural Utilities Service's (RUS or Agency), an agency within the United States Department of Agriculture, Rural Development, intention to request a new information collection package for the Broadband Technical Assistance Program (BTA Program). The BTA Program provides financial assistance to technical assistance providers and rural communities to promote the expansion of broadband service into unserved rural areas.

DATES: Comments on this notice must be received by December 23, 2022 to be assured of consideration.

FOR FURTHER INFORMATION CONTACT: Pamela Bennett, Regulations Management Division, Innovation Center, U.S. Department of Agriculture. Email: pamela.bennett@usda.gov. Telephone: (202) 720-9639.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS will submit to OMB for regular approval.

Comments are invited on: (a) Whether the proposed collection of information is necessary for the proper performance of the functions of the Rural Business-Cooperative Service, including whether the information will have practical utility; (b) the accuracy of the Rural Business-Cooperative Service's estimate of the burden of the proposed collection of information including validity of the methodology and assumptions used; (c) ways to enhance the quality, utility and clarity of the information to be collected; and (d) ways to minimize the burden of the collection of information on those who are to respond, including through the use of appropriate automated, electronic, mechanical, or other technological collection techniques or other forms of information technology.

Comments may be sent by the Federal eRulemaking Portal: Go to https://www.regulations.gov and, in the “Search” box, type in the Docket No. RUS-22-TELECOM-0054. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

A federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: Broadband Technical Assistance Program.

OMB Control Number: 0572-NEW.

Type of Request: New information collection.

Abstract: The Rural Utilities Service administers the Broadband Technical Assistance Program (BTA Program) as authorized pursuant to the Infrastructure Investment and Jobs Act (Pub. L. 117-58). The purpose of the program is to provide financial assistance to technical assistance providers and rural communities to promote the expansion of broadband service into unserved rural areas. Program funds must be used to support broadband technical assistance activities which include, but are not limited to, project planning and community engagement, operations support, financial sustainability, environmental compliance, construction and engineering, accessing federal resources, and data collection and reporting.

The reporting burden covered by this collection of information consists of forms, documents and written burden to support a request for funding for BTA Program assistance. This information collection will be used to obtain information necessary to evaluate applications to determine the eligibility of the applicant and the project for the program and to qualitatively assess the project's technical and financial merit to determine which projects should be funded.

Estimate of Burden: Public reporting burden for this collection of information is estimated to average 1.109 hours per response.

Respondents: Respondents for this data my include Tribes and Tribal Entities, state or local governments, a territory or possession of the United States, an institution of higher learning, non-profit entities with 501(c)(3) IRS status, cooperatives or mutual organizations, corporations and limited liability companies or limited liability partnerships.

Estimated Number of Respondents: 25.

Estimated Number of Responses per Respondent: 18.04.

Estimated Number of Responses: 451.

Estimated Total Annual Burden on Respondents: 500 hours.

Copies of this information collection can be obtained from Pamela Bennett, Rural Development Innovation Center, Regulations Management Division, at (202) 720-9639. All responses to this notice will be summarized and included in the request for OMB approval. All comments will also become a matter of public record.

Andrew Berke,
Administrator, Rural Utilities Service.

[FR Doc. 2022-23014 Filed 10-21-22; 8:45 am]

BILLING CODE 3410-15-P